DEPARTMENT OF COMMERCE

Membership of the Office of the Secretary Performance Review Board

AGENCY: Department of Commerce.

ACTION: Notice of additional membership on the Office of the Secretary Performance Review Board.

SUMMARY: In accordance with 5 U.S.C., 4313(c)(4), DOC announces the appointment of persons to serve as members of the Office of the Secretary (OS) Performance Review Board (PRB). The OS/PRB is responsible for reviewing performance appraisals and ratings of Senior Executive Service (SES) members. The appointment of this additional member to the OS/PRB will be for a period of 24 months.

EFFECTIVE DATE: The effective date of service of appointee to the Office of the Secretary Performance Review Board is upon publication of this notice.

FOR FURTHER INFORMATION CONTACT: Mary King, Acting Director, Office of Executive Resources, Office of Human Resources Management, Office of the Director, 14th and Constitution Avenue, NW., Washington, DC 20230, (202) 482-3321.

SUPPLEMENTARY INFORMATION: The names, position titles, and type of appointment of the members of the OS/PRB are set forth below by organization:

Department of Commerce

Office of the Secretary

2004-2006 Performance Review Board Membership

Bureau of Industry and Security

Eileen M. Albanese, Director, Office of Exporter Services

Dated: October 28, 2004.
Mary King,
Acting Director, Office of Executive Resources.

[FR Doc. 04-25052 Filed 11-9-04; 8:45 am]

BILLING CODE 3510-BS-M